ENVIRONMENTAL PROTECTION AGENCY

40 CFR Parts 9 and 721

[EPA-HQ-OPPT-2019-0359; FRL-7486-01-OCSPP]

RIN 2070-AB27

Significant New Use Rules on Certain Chemical Substances (19-2.F)

Correction

In rule document 2021-17388, appearing on pages 46123-46133, in the issue of Wednesday, August 18, 2021, make the following corrections to eliminate a duplicate entry for section 721.11301:

§ 721.11301 [Corrected]

1. On page 46128, in the second column, delete lines 35-68.

2. On the same page, in the third column, delete lines 1-4.

[FR Doc. C1-2021-17388 Filed 9-1-21; 8:45 am]

BILLING CODE 1301-00-PD